NORTHEAST DAIRY COMPACT COMMISSION

7 CFR Part 1309

Over-Order Price Regulation; Supply Management Refund Program; Correction

AGENCY: Northeast Dairy Compact Commission.

ACTION: Correcting amendments.

SUMMARY: This document contains corrections to the final regulations (7 CFR Part 1309) published in the Federal Register of Wednesday, May 31, 2000, (65 FR 34580). The regulations related to establishing a Supply Management Refund Program for the regulated area pursuant to Article IV, section 9(f) of the Northeast Interstate Dairy Compact.

DATES: Effective date: June 1, 2001.

FOR FURTHER INFORMATION CONTACT: Daniel Smith, Executive Director, Northeast Dairy Compact Commission at the above address or by telephone at (802) 229-1941, or by facsimile at (802) 229-2028.

SUPPLEMENTARY INFORMATION:

Background

The final regulations that are the subject of these corrections established the Northeast Dairy Compact Commission's Supply Management Refund Program effective July 1, 2000. Section 1309.4 provides the qualifications and methodology for payments to producers of the supply management fund 45 days after the close of the refund year on June 30.

Need for Correction

As published the final rule contains errors which may prove to be misleading and need to be clarified. Because of a clerical error, § 1309.4(a) at line 5 of the first column of page 34581 refers to “production of the preceding calendar year” when the Commission intended to refer to “production of the preceding 12 month period.” Also, and again due to a clerical error, § 1309.4(b) at line 21 of the first column of page 34581 refers to “§ 1309.2(e)” which was intended to read “§ 1309.2(c).”

List of Subjects in 7 CFR Part 1309

Milk.

Accordingly, 7 CFR part 1309 is corrected by making the following correcting amendments:

PART 1309—SUPPLY MANAGEMENT REFUND PROGRAM

1. The authority citation for part 1309 continues to read as follows:

Authority: 7 U.S.C. 7256.

2. Revise § 1309.4 to read as follows:

§ 1309.4 Payment to producers of supply management refund.

(a) All producers who are qualified pursuant to § 1309.1 shall become eligible to receive payment of the supply management refund computed pursuant to § 1309.2 by submitting to the compact commission documentation that the producer milk production during the refund year is less than or the increase is not more than 1% of the milk production of the preceding 12 month period. Such documentation shall be filed with the commission not later than 45 days after the end of the refund year.

(b) The commission will make payment to all producers qualified pursuant to § 1309.1 and eligible pursuant to paragraph (a) of this section in the following manner:

(1) A per farm payment computed by dividing the amount subtracted pursuant to § 1309.2(b) by the total eligible producers; and

(2) The value determined by multiplying the supply management refund price computed pursuant to § 1309.2(c) by the producer's milk pounds, not to exceed $12,000.

Dated: May 1, 2001.
Daniel Smith,
Executive Director.

[FR Doc. 01-11792 Filed 5-9-01; 8:45 am]

BILLING CODE 1650-01-P